DEPARTMENT OF ENERGY

Federal Energy Regulatory Commission

[Docket No. CP00-232-000]

Iroquois Gas Transmission System, L.P.; Notice of Application

May 8, 2000.

Take notice that on April 28, 2000, Iroquois Gas Transmission System, L.P. (Iroquois), One Corporate Drive, Suite 600, Shelton, Connecticut 06484, filed in Docket No. CP00-232-000 an application pursuant to the provisions of Section 7 of the Natural Gas Act for a certificate of public convenience and necessity authorizing the construction and operation of pipeline and compression facilities for the transportation of natural gas, all as more fully set forth in the application which is on file with the Commission and open to public inspection. This filing may be viewed on the web at http://www.ferc.fed.us/online/rims.htm (call 202-208-2222 for assistance).

Specifically, Iroquois seeks to construct and operate: (1) approximately 30.3 miles of 24-inch pipeline from Northport, New York to the Bronx, New York; (2) a new 20,000 horsepower (HP) compressor station at Boonville, New York; (3) a new 20,000 HP compressor station at Dover, New York; (4) a 3,300 HP increase at the existing Wright compressor station; (5) an 11,000 HP increase at the existing Croghan compressor station; (6) cooling units at the existing Wright and Athens compressor stations; (7) a new point of interconnection with the facilities of Consolidated Edison Company of New York, Inc. in the Bronx, New York; and (8) other appurtenant facilities. Iroquois states that the estimated cost of the proposed facilities is $170.8 million. Iroquois proposes to place the facilities in service in two phases. The first phase would transport up to 70,000 dekatherms per day beginning April 1, 2002 and the remaining facilities would be placed in service on November 1, 2002.

Iroquois proposes to utilize the proposed facilities to transport about 220,000 to 230,000 dekatherms per day. Iroquois conducted an open season between November 15 and December 17, 1999 and has executed precedent agreements totaling 561,470 dekatherms per day with five shippers.¹ Iroquois states that although this amount is greater that the capacity of the proposed facilities, it has the ability under the precedent agreements to pro rate the capacity to conform with the proposed facilities' capacity. According to Iroquois, a decision over the need to proration capacity will be made on or about October 15, 2000.

¹ Concurrent with the open season, Iroquois solicited its existing customers to permanently release capacity for use by the expansion shippers. This resulted in the release of 13,115 dekatherms per day of released capacity for use in this project

Iroquois proposes to provide transportation service under its Part 284, Subpart G blanket certificate pursuant to Rate Schedule RTS of its FERC Gas Tariff, First Revised Volume No. 1. Iroquois states that its proposal is consistent with the Commission's Certificate Policy Statement.² Iroquois proposes to roll in the costs of the proposed facilities, maintaining that its existing customers will not subsidize the proposed facilities. Further, Iroquois states that its proposal will not have any substantial adverse impacts. Finally, Iroquois asserts that its proposal provides numerous system-wide benefits that can be balanced against any adverse impacts.

² See, 88 FERC, ¶ 61,227 (1999), clarification 90 FERC ¶ 61,128 (2000).

Any questions regarding the application should be directed to Jeffrey A. Bruner, Vice President, General Counsel and Secretary for Iroquois, One Corporate Drive, Suite 600, Shelton, Connecticut 06484 at 203-925-7200, or Beth L. Webb, attorney for Iroquois, Dickstein Shapiro Morin & Oshinsky, LLP, 2101 L Street NW, Washington, DC 20037 at 202-785-9700.

Any person desiring to be heard or to make any protest with reference to said application should on or before May 30, 2000, file with the Federal Energy Regulatory Commission, 888 First Street NE, Washington, DC 20426, a motion to intervene or protest in accordance with the requirements of the Commission's Rules of Practice and Procedure (18 CFR 385.211 and 385.214) and the regulations under the NGSA (18 CFR 157.10). All protests filed with the Commission will be considered by it in determining the appropriate action to be taken but will not serve to make the protestants parties to the proceeding. Any person wishing to become a party in any proceeding must file a motion to intervene in accordance with the Commission's rules.

A person obtaining intervenor status will be placed on the service list maintained by the Secretary of the Commission and will receive copies of all documents issued by the Commission, filed by the applicant, or filed by all other intervenors. An intervenor can file for rehearing of any Commission order and can petition for court review of any such order. However, an intervenor must serve copies of comments or any other filing it makes with the Commission to every other intervenor in the proceeding, as well as filing an original and 14 copies with the Commission.

A person does not have to intervene, however, in order to have comments considered. A person, instead, may submit two copies of such comments to the Secretary of the Commission. Commenters will be placed on the Commission's environmental mailing list, will receive copies of environmental documents, and will be able to participate in meetings associated with the Commission's environmental review process. Commenters will not be required to serve copies of filed documents on all other parties. However, commenters will not receive copies of all documents filed by other parties or issued by the Commission, and will not have the right to seek rehearing or appeal the Commission's final order to a Federal court.

The Commission will consider all comments and concerns equally, whether filed by commenters of those requesting intervenor status.

Take further notice that, pursuant to the authority contained in and subject to the jurisdiction conferred upon the Commission by Sections 7 and 15 of the NGA and the Commission's Rules of Practice and Procedure, a hearing will be held without further notice before the Commission or its designee on this application if no motion to intervene is filed within the time required herein, if the Commission on its own review of the matter finds that the proposal is required by the public convenience and necessity. If a motion for leave to intervene is timely filed, or if the Commission on its own motion believes that a formal hearing is required, further notice of such hearing will be duly given.

Under the procedure provided for, unless otherwise advised, it will be unnecessary for Iroquois to appear or to be represented at the hearing.

David P. Boergers,
Secretary.

[FR Doc. 00-11924 Filed 5-11-00; 8:45 am]

BILLING CODE 6717-01-M